DEPARTMENT OF THE INTERIOR

National Park Service

Plan of Operations and Environmental Assessment and Floodplain Statement of Findings for the DM Murdock Deep #1 Well by Kindee Oil and Gas Texas, LLC, Padre Island National Seashore, TX

AGENCY: National Park Service, Interior.

ACTION: Notice of Availability of a Plan of Operations and Environmental Assessment and Floodplain Statement of Findings for a 30-day Public Review at Padre Island National Seashore.

SUMMARY: Notice is hereby given in accordance with Section 9.52(b) of Title 36 of the Code of Federal Regulations, Part 9, Subpart B, of a Plan of Operations submitted by Kindee Oil and Gas Texas, LLC, for the DM Murdock Deep #1 Well in Padre Island National Seashore, Kenedy County, Texas. Additionally, the NPS has prepared an Environmental Assessment and Floodplain Statement of Findings for this proposal.

DATES: The above documents are available for public review and comment through March 2, 2007.

ADDRESSES: The Plan of Operations and Environmental Assessment are available for public review and comment in the Office of the Superintendent, Colin Campbell, Padre Island National Seashore, 20301 Park Road 22, Corpus Christi, Texas. The documents are also available at the Planning, Environment and Public Comment (PEPC) Web site at http://parkplanning.nps.gov/.

FOR FURTHER INFORMATION CONTACT: Mr. Darrell Echols, Chief, Division of Science and Resources Management, Padre Island National Seashore, P.O. Box 181300, Corpus Christi, Texas 78480-1300, Telephone: 361-949-8173, ext. 223, e-mail at Darrell_Echols@nps.gov.

SUPPLEMENTARY INFORMATION: This notice was first published on July 28, 2006. The documents are still available for public review and comment. If you wish to comment on the Plan of Operations, Environmental Assessment, and draft Floodplain and Wetland Statements of Findings, you may mail comments to the name and address below or post comments online at http://parkplanning.nps.gov/. This environmental assessment will be on public review for 30 days. Before including your address, phone number, e-mail address, or other personal identifying information in your comment, you should be aware that your entire comment—including personal identifying information—may be made publicly available at any time. While you can ask us in your comment to withhold your personal identifying information from public review, we cannot guarantee that we will be able to do so.

Dated: January 18, 2007.
Colin W. Campbell,
Superintendent, Padre Island National Seashore.

[FR Doc. 07-414 Filed 1-30-07; 8:45 am]

BILLING CODE 4312-CD-M